DEPARTMENT OF STATE

[Public Notice: 11648]

Request for Information on Conducting Anti-Trafficking Work Using a Racial Equity Lens

AGENCY: Department of State.

ACTION: Request for information.

SUMMARY: The Department of State, on behalf of the Senior Policy Operating Group (SPOG) (see Background section below for more information on the SPOG), requests written information on how it can advance racial justice and equity to assist in SPOG agencies' individual and the SPOG's collective implementation of Advancing Racial Equity and Support for Underserved Communities Through the Federal Government. This request for information (RFI) is part of the SPOG's ongoing efforts to engage and collaborate with diverse communities and develop an implementation plan for integrating racial equity into U.S. government anti-trafficking efforts. The implementation plan will also highlight the importance of an intersectional approach, as racism often compounds with other forms of discrimination to affect individuals' vulnerability to human trafficking. Additionally, it will complement agencies' individual work to implement Diversity, Equity, Inclusion and Accessibility in the Federal Workforce by sharing information and practices for increasing diversity in the federal workforce as an integral way to strengthen agencies' anti-trafficking work. Submissions must be made in writing to the Office to Monitor and Combat Trafficking in Persons at the Department of State by March 15, 2022. Please refer to the Addresses, Scope of Interest, and Information Sought sections of this Notice for additional instructions on submission requirements.

DATES: Submissions must be received by 5 p.m. EST on March 15, 2022.

ADDRESSES: Written submissions and supporting documentation, such as research studies, fieldwork, training materials, evaluations, assessments, and other relevant materials, may be submitted by email to: TIPOutreach@state.gov

Scope of Interest: The Department of State, on behalf of the SPOG, requests information relevant to increasing the SPOG agencies' collective awareness of the intersection between racial equity and U.S. government anti-trafficking policies and programs and to identify areas for collaboration and improvement. Because racism often compounds with other forms of discrimination to increase individuals' vulnerability to human trafficking, advancing racial equity may also complement agencies' efforts to improve equity more broadly, for example, in furtherance of E.O. 14020 (Establishment of the White House Gender Policy Council), E.O. 13988 (Preventing and Combating Discrimination on the Basis of Gender Identity or Sexual Orientation), E.O. 14031 (Advancing Equity, Justice, and Opportunity for Asian Americans, Native Hawaiians, and Pacific Islanders), among other Presidential actions focused on advancing equity for systemically marginalized communities. Also, while E.O. 13985 covers both racial equity and support for underserved communities, this initiative will focus squarely on racial equity.

Submissions should not exceed 20 pages and should not include any information that cannot be made publicly available. The submitter may also include links to online material or interactive presentations but should ensure all links are publicly available. Attachments, linked resources, and documents do not count against the 20-page limit. Submissions should be written concisely, in plain language, and in a narrative format. Submitters may respond to part or all of the questions listed in this Notice. However, only those questions for which the submitter has direct personal or professional experience should be answered. Submitters should clearly identify the questions to which they are responding. Where appropriate, submissions should include citations, references, and/or links to the source material. If using primary sources, such as research studies, interviews, direct observations, or other sources of quantitative or qualitative data, submitters should provide details on the research or data-gathering methodology and any supporting documentation. Each response should include, to the extent applicable:

• The name of the individual(s) and organization responding;

• A brief description of the mission or area of expertise of the responding individual(s) or organization(s);

• The name, phone number, and email address of a single point of contact for questions or other follow-up on the response; and

• The question(s) addressed in the submission.

Confidentiality: Submissions will be shared with the U.S. government agencies that are members of the SPOG and may be made publicly available. In addition, any information submitted to the Department of State may be releasable pursuant to the provisions of the Freedom of Information Act or other applicable law.

Response: The Department of State will confirm receipt of each submission and may reach out to parties who respond to this RFI with follow-up questions. The SPOG will continue to engage stakeholders and community members for the purposes of implementing E.O. 13985 and to continue improving its efforts.

SUPPLEMENTARY INFORMATION:

1. Background

E.O. 13985, Advancing Racial Equity and Support for Underserved Communities Through the Federal Government, states the Administration policy to “pursue a comprehensive approach to advancing equity for all, including people of color and others who have been historically underserved, marginalized, and adversely affected by persistent poverty and inequality” which involves a whole-of-government approach.

Through this RFI, the SPOG seeks input, information, and recommendations from a broad array of stakeholders in the public, private, advocacy, not-for-profit, and philanthropic sectors, including state, local, tribal, and territorial areas, on available methods, approaches, and tools to apply a racial equity lens to Federal government anti-trafficking efforts.

Definitions

This RFI adopts the definition of the term “equity” used in E.O. 13985: The consistent and systematic fair, just, and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality. Please note that different definitions of “equity” exist, which are complementary to but may not be identical with the definition in E.O. 13985.

The term “forced labor” is defined for U.S. enforcement purposes in two separate sections of the United States Code. In the criminal statutes of Title 18, it encompasses the range of activities involved when an individual or entity uses prohibited means that include force or physical threats; psychological coercion; abuse of the legal process; a scheme, plan, or pattern intended to hold a person in fear of serious harm; or other coercive means to obtain the labor or services of a person. Once a person's labor is obtained by such means, the person's previous consent or effort to obtain employment with the trafficker does not preclude the person from being considered a victim, or the government from prosecuting the offender. Forced labor in Title 18 also encompasses when an individual or entity knowingly benefits, financially or by receiving anything of value, from participating in a venture which has engaged in providing or obtaining labor or services by prohibited means, knowing or in reckless disregard of the fact that the venture has engaged in providing or obtaining labor or services by such prohibited means. Moreover, Title 18 also prohibits knowingly recruiting, harboring, transporting, providing, or obtaining by any means, any person for labor or services in violation of the forced labor statute, or other U.S. criminal statutes involving slavery, involuntary servitude, and peonage. In the customs-related statute of Title 19, it is also defined in connection with the prohibition on the importation of goods produced wholly or in part by forced labor, including forced child labor; convict labor; and/or indentured labor under penal sanctions. In this context, forced labor is defined as: “all work or service which is exacted from any person under the menace of any penalty for its nonperformance and for which the worker does not offer himself voluntarily.” In addition, Title 22 includes the following in the definition of “severe forms of trafficking in persons”: “the recruitment, harboring, transportation, provision, or obtaining of a person for labor or services, through the use of force, fraud, or coercion for the purpose of subjection to involuntary servitude, peonage, debt bondage, or slavery.”

The term “sex trafficking” is when a person is caused to engage in a commercial sex act as the result of force, threats of force, fraud, coercion, or any combination of such means, or when a person under the age of 18 is caused to engage in commercial sex. Under such circumstances, perpetrators involved in recruiting, enticing, harboring, transporting, providing, obtaining, advertising, maintaining, patronizing, or soliciting a person for that purpose are guilty of the federal crime of sex trafficking. This is true even if the victim previously consented to engage in commercial sex.

U.S. law explicitly includes a distinct definition of “sex trafficking of children.” Any child (under the age of 18) who has been recruited, enticed, harbored, transported, provided, obtained, advertised, maintained, patronized, or solicited to engage in a commercial sex act is a victim of human trafficking, regardless of whether or not force, fraud, or coercion is used.

The Senior Policy Operating Group (SPOG)

The SPOG is comprised of senior officials designated as representatives of the 20 federal departments and agencies of the President's Interagency Task Force to Monitor and Combat Trafficking in Persons, a cabinet-level entity created by the Trafficking Victims Protection Act of 2000, that are responsible for coordinating U.S. government-wide efforts to combat trafficking in persons. The Trafficking Victims Protection Act, as amended in 2003, established the SPOG. The agencies of the SPOG are the Departments of State, the Treasury, Defense, Justice, the Interior, Agriculture, Commerce, Labor, Health and Human Services, Transportation, Education, and Homeland Security, as well as the Office of Management and Budget, the Office of the U.S. Trade Representative, the Office of the Director of National Intelligence, the National Security Council, the Domestic Policy Council, the U.S. Agency for International Development, the Federal Bureau of Investigation, and the U.S. Equal Employment Opportunity Commission. Agencies regularly convene to advance and coordinate federal policies and collaborate with a range of stakeholders.

Five standing committees meet regularly to advance substantive areas of the SPOG's work:

• Research & Data Committee—Facilitates forums and discussions on human trafficking data and prevalence among agencies, invites external researchers and experts to share their latest findings with the Committee, and works to ensure agencies' research efforts are complementary.

• Grantmaking Committee—Assists in planning and coordinating agencies' domestic and international anti-trafficking program activities and promotes evidence-based programming to build the knowledge base on human trafficking and propose solutions to enhance anti-trafficking activities.

• Public Awareness & Outreach—Serves as a forum for agencies to seek feedback and buy-in on agency-specific public awareness and outreach projects or resources, including on how to ensure a trauma-informed approach, and facilitates information-sharing on upcoming public awareness and outreach events, campaigns, and materials to allow for cross-promotion and/or collaboration among agencies.

• Victims Services Committee—Supports federal engagements and efforts that aim to promote a strategic, coordinated approach to the provision of services for victims of human trafficking at all levels of government; support evidence-based practices in victim services; provide and promote outreach, training, and technical assistance to increase victim identification and expand the availability of services; and promote effective, culturally appropriate, trauma-informed services that improve the short- and long-term health, safety, and well-being of victims.

• Procurement & Supply Chains—Seeks to ensure agencies understand their responsibilities under the Federal Acquisition Regulation (FAR), “Ending Trafficking in Persons” (www.federalregister.gov/documents/2015/01/29/2015-01524/federal-acquisition-regulation-ending-trafficking-in-persons); provides a forum through which agencies can work through challenges related to strengthening procurement safeguards and supply chain efforts, share data and promising practices for effective implementation of the FAR, and ensure efforts are not duplicative and that policies and procedures are consistent; and works to create a coordinated and collective U.S. government voice in relation to increasing corporate accountability and compliance in combating forced labor in global supply chains more broadly.

In addition, the SPOG has created a few ad hoc working groups. Unlike the committees, these working groups are time-limited and formed to accomplish specific goals. As of the publication of this RFI, the SPOG has three active ad hoc working groups:

• Ad Hoc Working Group on Demand Reduction—To examine the role of demand reduction in preventing human trafficking or otherwise achieving the purposes of the TVPA and the Justice for Victims of Trafficking Act (consistent with Sec. 115 of Pub. L. 115-425).

• Ad Hoc Working Group on Rights and Protections of Temporary Workers—To analyze and compare the rights and protections granted to workers of each employment-based nonimmigrant visa category to identify which categories require additional protections related to the recruitment and treatment of workers; and to discuss ways to address any gaps and inconsistencies, including developing and proposing necessary regulatory or legislative changes (consistent with Priority Action 1.5.2 of the National Action Plan to Combat Human Trafficking).

• Ad Hoc Working Group on Screening Forms and Protocols—To develop best practices in implementing screening forms and protocols as relevant for all federal officials who have the potential to encounter a human trafficking victim in the course of their regular duties that do not otherwise pertain to human trafficking (consistent with Priority Action 2.1.1 of the National Action Plan to Combat Human Trafficking).

II. Information Sought Relevant To Conducting Anti-Trafficking Work Using a Racial Equity Lens

Submissions should include, but need not be limited to, answers to relevant questions below for which the submitter has direct personal or professional experience. Please see the Scope of Interest section above for detailed information regarding submission requirements.

1. What does racial equity mean in the context of human trafficking? What does a racially equitable anti-trafficking framework look like, particularly for a law enforcement response and prosecution response, victim assistance efforts, and prevention strategy? Are there specific considerations for responding to sex trafficking and to labor trafficking, including forced labor?

2. Please describe any racial injustice, inequity, or unfairness you have observed or experienced that resulted from a federal anti-trafficking activity (please specify the relevant policy, practice, or program). Do you have recommendations for how this should be corrected?

3. How have federal anti-trafficking policies, programs, and systems created barriers to advancing racial equity, and how might the executive branch address and help reduce these barriers?

4. What promising approaches or efforts have been successful in embedding a racial equity lens in anti-trafficking work? What examples and/or data are available to support this?

5. What can SPOG agencies individually and the SPOG collectively do to advance racial equity and integrate it into federal anti-trafficking work domestically and internationally—particularly in the areas of investigation and prosecution, victim services (commenters may specify specific populations, such as people of color, noncitizens, LGBTQ+ persons, etc.), grantmaking, public procurement, supply chains, public awareness and outreach, research and data collection, and any other area the submitter feels is important to note?

6. What tools, approaches, or lessons have been applied in other countries or in U.S. state, territorial, tribal, and local jurisdictions to address the intersection between racial, ethnic, or cultural discrimination and human trafficking? Could these tools, approaches, or lessons applied by other authorities be helpful to the United States to further racial equity?

7. What are promising practices or strategies for how anti-trafficking policies and programs can address the compounded barriers at the intersections of systemic racism and other forms of discrimination, such as discrimination against persons with disabilities, LGBTQ+ persons, and women and girls?

8. Meaningful stakeholder engagement includes collective problem-solving and decision-making, equitable partnerships, and collaboration that fosters a sharing of power. What processes or approaches should SPOG agencies have in place to proactively and meaningfully engage individuals with lived experience of human trafficking and communities that are most directly impacted by human trafficking? What are tools and best practices that SPOG agencies should consider to embed racial equity practices into community and stakeholder engagement?

Zachary A. Parker,
Director, Office of Directives Management, U.S. Department of State.

[FR Doc. 2022-02537 Filed 2-7-22; 8:45 am]

BILLING CODE 4710-11-P